DEPARTMENT OF ENERGY

Federal Energy Regulatory Commission

Combined Notice of Filings

Take notice that the Commission has received the following Natural Gas Pipeline Rate and Refund Report filings:

Filings Instituting Proceedings

Docket Numbers: PR22-54-000.

Applicants: Duke Energy Ohio, Inc.

Description: § 284.123(g) Rate Filing: DEO-Revised Operating Statement to Reflect Change in State-Approved Rates to be effective 6/1/2022.

Filed Date: 6/30/22.

Accession Number: 20220630-5046.

Comment Date: 5 p.m. ET 7/21/22.

284.123(g) Protests Due: 5 p.m. ET 8/29/22.

Docket Numbers: RP22-1000-000.

Applicants: Transcontinental Gas Pipe Line Company, LLC.

Description: Compliance filing: Rate Schedule S-2 OFO Penalty Flow Through Refund Report to be effective N/A.

Filed Date: 6/30/22.

Accession Number: 20220630-5012.

Comment Date: 5 p.m. ET 7/12/22.

Docket Numbers: RP22-1001-000.

Applicants: Eastern Gas Transmission and Storage, Inc.

Description: Compliance filing: EGTS—Operational Gas Sales Report—2022 to be effective N/A.

Filed Date: 6/30/22.

Accession Number: 20220630-5019.

Comment Date: 5 p.m. ET 7/12/22.

Docket Numbers: RP22-1002-000.

Applicants: El Paso Natural Gas Company, L.L.C.

Description: § 4(d) Rate Filing: Permanent Capacity Release (WTG #617716 and 617729) to be effective 7/1/2022.

Filed Date: 6/30/22.

Accession Number: 20220630-5056.

Comment Date: 5 p.m. ET 7/12/22.

Docket Numbers: RP22-1003-000.

Applicants: Cove Point LNG, LP.

Description: § 4(d) Rate Filing: Cove Point—Modification of GT&C—Fuel Retainage to be effective 8/1/2022.

Filed Date: 6/30/22.

Accession Number: 20220630-5057.

Comment Date: 5 p.m. ET 7/12/22.

Docket Numbers: RP22-1004-000.

Applicants: Florida Gas Transmission Company, LLC.

Description: § 4(d) Rate Filing: FPL Exhibit B Update—New Contracts 128521 & 128522 to be effective 7/1/2022.

Filed Date: 6/30/22.

Accession Number: 20220630-5072.

Comment Date: 5 p.m. ET 7/12/22.

Docket Numbers: RP22-1005-000.

Applicants: Alliance Pipeline L.P.

Description: § 4(d) Rate Filing: Negotiated Rates—Various July 1 2022 Capacity Releases to be effective 7/1/2022.

Filed Date: 6/30/22.

Accession Number: 20220630-5073.

Comment Date: 5 p.m. ET 7/12/22.

Docket Numbers: RP22-1006-000.

Applicants: Florida Gas Transmission Company, LLC.

Description: § 4(d) Rate Filing: New Service Agreement—GRU to be effective 7/1/2022.

Filed Date: 6/30/22.

Accession Number: 20220630-5077.

Comment Date: 5 p.m. ET 7/12/22.

Docket Numbers: RP22-1007-000.

Applicants: El Paso Natural Gas Company, L.L.C.

Description: § 4(d) Rate Filing: Negotiated Rate Agreements (PDC Permian_Targa) to be effective 7/1/2022.

Filed Date: 6/30/22.

Accession Number: 20220630-5079.

Comment Date: 5 p.m. ET 7/12/22.

Docket Numbers: RP22-1008-000.

Applicants: Northern Natural Gas Company.

Description: § 4(d) Rate Filing: 20220630 Negotiated Rate to be effective 7/1/2022.

Filed Date: 6/30/22.

Accession Number: 20220630-5086.

Comment Date: 5 p.m. ET 7/12/22.

Docket Numbers: RP22-1009-000.

Applicants: Maritimes & Northeast Pipeline, L.L.C.

Description: § 4(d) Rate Filing: Negotiated Rates—Northern to Emera eff 7-1-22 to be effective 7/1/2022.

Filed Date: 6/30/22.

Accession Number: 20220630-5089.

Comment Date: 5 p.m. ET 7/12/22.

Docket Numbers: RP22-1010-000.

Applicants: El Paso Natural Gas Company, L.L.C.

Description: § 4(d) Rate Filing: Negotiated Rate Agreement Update (Conoco July 2022) to be effective 7/1/2022.

Filed Date: 6/30/22.

Accession Number: 20220630-5107.

Comment Date: 5 p.m. ET 7/12/22.

Docket Numbers: RP22-1011-000.

Applicants: El Paso Natural Gas Company, L.L.C.

Description: § 4(d) Rate Filing: Negotiated Rate Agreement (Devon) to be effective 8/1/2022.

Filed Date: 6/30/22.

Accession Number: 20220630-5110.

Comment Date: 5 p.m. ET 7/12/22.

Docket Numbers: RP22-1012-000.

Applicants: Rockies Express Pipeline LLC.

Description: § 4(d) Rate Filing: REX 2022-06-30 Negotiated Rate Agreement and Amendments to be effective 7/1/2022.

Filed Date: 6/30/22.

Accession Number: 20220630-5151.

Comment Date: 5 p.m. ET 7/12/22.

Docket Numbers: RP22-1013-000.

Applicants: MIGC LLC.

Description: MIGC LLC submits 2022 Annual Fuel Retention Percentage Tracker Filing.

Filed Date: 6/30/22.

Accession Number: 20220630-5165.

Comment Date: 5 p.m. ET 7/12/22.

Docket Numbers: RP22-1014-000.

Applicants: Algonquin Gas Transmission, LLC.

Description: § 4(d) Rate Filing: Negotiated Rates—Various Releases 7-1-22 to be effective 7/1/2022.

Filed Date: 6/30/22.

Accession Number: 20220630-5175.

Comment Date: 5 p.m. ET 7/12/22.

Docket Numbers: RP22-1015-000.

Applicants: Florida Gas Transmission Company, LLC.

Description: § 4(d) Rate Filing: Update Non-Conforming List and Negotiated Rate Record to be effective 7/1/2022.

Filed Date: 6/30/22.

Accession Number: 20220630-5186.

Comment Date: 5 p.m. ET 7/12/22.

Docket Numbers: RP22-1016-000.

Applicants: Texas Eastern Transmission, LP.

Description: § 4(d) Rate Filing: TETLP EPC AUG 2022 FILING to be effective 8/1/2022.

Filed Date: 6/30/22.

Accession Number: 20220630-5203.

Comment Date: 5 p.m. ET 7/12/22.

Docket Numbers: RP22-1017-000.

Applicants: LA Storage, LLC.

Description: § 4(d) Rate Filing: Filing of Negotiated Rate, Conforming IW Agreements 6.30.22 to be effective 7/1/2022.

Filed Date: 6/30/22.

Accession Number: 20220630-5213.

Comment Date: 5 p.m. ET 7/12/22.

Docket Numbers: RP22-1018-000.

Applicants: Transcontinental Gas Pipe Line Company, LLC.

Description: § 4(d) Rate Filing: Negotiated Rates—Cherokee AGL—Replacement Shippers—Jul 2022 to be effective 7/1/2022.

Filed Date: 6/30/22.

Accession Number: 20220630-5231.

Comment Date: 5 p.m. ET 7/12/22.

Docket Numbers: RP22-1019-000.

Applicants: Gulf Shore Energy Partners, LP.

Description: § 4(d) Rate Filing: Change in Executed Service Agreement to be effective 7/1/2022.

Filed Date: 6/30/22.

Accession Number: 20220630-5236.

Comment Date: 5 p.m. ET 7/12/22.

Docket Numbers: RP22-1020-000.

Applicants: Double E Pipeline, LLC.

Description: § 4(d) Rate Filing: Negotiated Rate & Non-Conforming Agreements—MRC Permian Company to be effective 7/1/2022.

Filed Date: 6/30/22.

Accession Number: 20220630-5249.

Comment Date: 5 p.m. ET 7/12/22.

Docket Numbers: RP22-1021-000.

Applicants: Trailblazer Pipeline Company LLC.

Description: § 4(d) Rate Filing: TPC 2022-06-30 Negotiated Rate Agreement Amendment to be effective 7/1/2022.

Filed Date: 6/30/22.

Accession Number: 20220630-5267.

Comment Date: 5 p.m. ET 7/12/22.

Docket Numbers: RP22-1022-000.

Applicants: Texas Eastern Transmission, LP.

Description: § 4(d) Rate Filing: Negotiated Rates—UGI to DTE eff 7-1-22 to be effective 7/1/2022.

Filed Date: 7/1/22.

Accession Number: 20220701-5001.

Comment Date: 5 p.m. ET 7/13/22.

Docket Numbers: RP22-1023-000.

Applicants: Cheyenne Plains Gas Pipeline Company, L.L.C.

Description: § 4(d) Rate Filing: Firm Variable Quantity Transportation to be effective 8/1/2022.

Filed Date: 7/1/22.

Accession Number: 20220701-5006.

Comment Date: 5 p.m. ET 7/13/22.

Docket Numbers: RP22-1024-000.

Applicants: Alliance Pipeline L.P.

Description: § 4(d) Rate Filing: Conversion to Section-Based Tariff to be effective 8/1/2022.

Filed Date: 7/1/22.

Accession Number: 20220701-5027.

Comment Date: 5 p.m. ET 7/13/22.

Docket Numbers: RP22-1025-000.

Applicants: Alliance Pipeline L.P.

Description: Tariff Amendment: Alliance Cancellation of Sheet-Based Tariff to be effective 8/1/2022.

Filed Date: 7/1/22.

Accession Number: 20220701-5033.

Comment Date: 5 p.m. ET 7/13/22.

Docket Numbers: RP22-1026-000.

Applicants: Eastern Gas Transmission and Storage, Inc.

Description: Compliance filing: EGTS—2022 Overrun and Penalty Revenue Distribution to be effective N/A.

Filed Date: 7/1/22.

Accession Number: 20220701-5038.

Comment Date: 5 p.m. ET 7/13/22.

Docket Numbers: RP22-1027-000.

Applicants: Equitrans, L.P.

Description: § 4(d) Rate Filing: Negotiated Rate Capacity Release Agreements—7/1/2022 to be effective 7/1/2022.

Filed Date: 7/1/22.

Accession Number: 20220701-5063.

Comment Date: 5 p.m. ET 7/13/22.

Docket Numbers: RP22-1028-000.

Applicants: Texas Gas Transmission, LLC.

Description: § 4(d) Rate Filing: Cap Rel Neg Rate Agmt (Jay-Bee 34447 to MacQuarie 53677) to be effective 7/1/2022.

Filed Date: 7/1/22.

Accession Number: 20220701-5088.

Comment Date: 5 p.m. ET 7/13/22.

Docket Numbers: RP22-1029-000.

Applicants: Gulf South Pipeline Company, LLC.

Description: § 4(d) Rate Filing: Amendment to NC Service Agmt (Brewton 45719) to be effective 7/1/2022.

Filed Date: 7/1/22.

Accession Number: 20220701-5089.

Comment Date: 5 p.m. ET 7/13/22.

Docket Numbers: RP22-1030-000.

Applicants: Cove Point LNG, LP.

Description: Compliance filing: Cove Point—2022 Penalty Revenue Distribution to be effective N/A.

Filed Date: 7/1/22.

Accession Number: 20220701-5090.

Comment Date: 5 p.m. ET 7/13/22.

Docket Numbers: RP22-1031-000.

Applicants: Transwestern Pipeline Company, LLC.

Description: § 4(d) Rate Filing: Rate Case Filing to be effective 8/1/2022.

Filed Date: 7/1/22.

Accession Number: 20220701-5099.

Comment Date: 5 p.m. ET 7/13/22.

Docket Numbers: RP22-1032-000.

Applicants: Rover Pipeline LLC.

Description: § 4(d) Rate Filing: Summary of Negotiated Rate Capacity Release Agreements on 7-1-22 to be effective 7/1/2022.

Filed Date: 7/1/22.

Accession Number: 20220701-5120.

Comment Date: 5 p.m. ET 7/13/22.

Docket Numbers: RP22-1033-000.

Applicants: Northern Natural Gas Company.

Description: § 4(d) Rate Filing: 20220701 Section 4 Rate Case Part 1 of 3 to be effective 8/1/2022.

Filed Date: 7/1/22.

Accession Number: 20220701-5131.

Comment Date: 5 p.m. ET 7/13/22.

Docket Numbers: RP22-1034-000.

Applicants: WTG Hugoton, LP.

Description: § 4(d) Rate Filing: Annual Fuel Retention Percentage Filing 2022-2023 to be effective 6/30/2022.

Filed Date: 7/1/22.

Accession Number: 20220701-5135.

Comment Date: 5 p.m. ET 7/13/22.

Docket Numbers: RP22-1035-000.

Applicants: West Texas Gas Utility, LLC.

Description: Annual Purchased Gas Cost Reconciliation Report of West Texas Gas Utility, LLC.

Filed Date: 7/1/22.

Accession Number: 20220701-5139.

Comment Date: 5 p.m. ET 7/13/22.

Docket Numbers: RP22-1036-000.

Applicants: Millennium Pipeline Company, LLC.

Description: § 4(d) Rate Filing: MMGS to Mitsui Name Change—Agmt 142019 to be effective 7/1/2022.

Filed Date: 7/1/22.

Accession Number: 20220701-5157.

Comment Date: 5 p.m. ET 7/13/22.

Docket Numbers: RP22-1037-000.

Applicants: Gulf South Pipeline Company, LLC.

Description: § 4(d) Rate Filing: Cap Rel Neg Rate Agmt (Osaka 46429 to ConocoPhillips 55428) to be effective 7/1/2022.

Filed Date: 7/1/22.

Accession Number: 20220701-5182.

Comment Date: 5 p.m. ET 7/13/22.

Docket Numbers: RP22-1038-000.

Applicants: Gulf South Pipeline Company, LLC.

Description: § 4(d) Rate Filing: Amendment to NC Neg Rate Agmt (Uniper 46406) to be effective 7/1/2022.

Filed Date: 7/1/22.

Accession Number: 20220701-5184.

Comment Date: 5 p.m. ET 7/13/22.

Docket Numbers: RP22-1039-000.

Applicants: Millennium Pipeline Company, LLC.

Description: § 4(d) Rate Filing: Narragansett dba National Grid to dba Rhode Island Name Change—Agmt 210165 to be effective 7/1/2022.

Filed Date: 7/1/22.

Accession Number: 20220701-5197.

Comment Date: 5 p.m. ET 7/13/22.

Docket Numbers: RP22-1040-000.

Applicants: Gulf South Pipeline Company, LLC.

Description: § 4(d) Rate Filing: Superseding Neg Rate Agmt Southern 49811 and Neg Rate Agmt FPL 55411 to be effective 7/1/2022.

Filed Date: 7/1/22.

Accession Number: 20220701-5227.

Comment Date: 5 p.m. ET 7/13/22.

Docket Numbers: RP22-1041-000.

Applicants: Crossroads Pipeline Company.

Description: § 4(d) Rate Filing: Non-Conforming Agreement Housekeeping to be effective 8/1/2022.

Filed Date: 7/1/22.

Accession Number: 20220701-5277.

Comment Date: 5 p.m. ET 7/13/22.

Docket Numbers: RP22-1042-000.

Applicants: Portland Natural Gas Transmission System.

Description: § 4(d) Rate Filing: Narragansett name change to dba Rhode Island Energy—NR/Non-Con Amendment to be effective 7/1/2022.

Filed Date: 7/1/22.

Accession Number: 20220701-5354.

Comment Date: 5 p.m. ET 7/13/22.

Docket Numbers: RP22-1043-000.

Applicants: Equitrans, L.P.

Description: § 4(d) Rate Filing: Remove Terminated Agreement—7/31/2022 to be effective 8/5/2022.

Filed Date: 7/5/22.

Accession Number: 20220705-5045.

Comment Date: 5 p.m. ET 7/18/22.

Docket Numbers: RP22-472-000.

Applicants: Interstate Gas Supply, Inc., Dominion Energy Solutions, Inc.

Description: Interstate Gas Supply, Inc. and Dominion Energy Solutions, Inc. submit Second Status Report.

Filed Date: 6/30/22.

Accession Number: 20220630-5291.

Comment Date: 5 p.m. ET 7/12/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP17-346-004.

Applicants: Northwest Pipeline LLC.

Description: Compliance filing: Northwest Pipeline: Unopposed Petition to Amend Settlement Agreement to Extend to be effective N/A.

Filed Date: 6/30/22.

Accession Number: 20220630-5229.

Comment Date: 5 p.m. ET 7/12/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2022.
Debbie-Anne A. Reese,
Deputy Secretary.

[FR Doc. 2022-14689 Filed 7-8-22; 8:45 am]

BILLING CODE 6717-01-P